DEPARTMENT OF VETERANS AFFAIRS

Advisory Committee on Minority Veterans; Notice of Meeting

The Department of Veterans Affairs (VA) gives notice under the Public Law 92-463 (Federal Advisory Committee Act) that the Advisory Committee on Minority Veterans will meet on November 2-5, 2009, in the Pan American Room at the Capital Hilton, 1001 16th Street, NW., Washington, DC, from 8 a.m. to 5 p.m., each day. The meeting is open to the public.

The purpose of the Committee is to advise the Secretary on the administration of VA benefits and services to minority Veterans, to assess the needs of minority Veterans and to evaluate whether VA compensation, medical and rehabilitation services, outreach, and other programs are meeting those needs. The Committee makes recommendations to the Secretary regarding such activities.

On November 2, the agenda will include briefings and updates on the role of the advisory committee, ethics, Center for Minority Veterans, Office of Policy and Planning, Veterans Health Administration, and a round table discussion with ex-officio members. On November 3, the agenda will include briefings and updates on the Veterans Employment Coordination Service, Center for Veterans Enterprise, National Cemetery Administration, Veterans Benefits Administration, and a round table discussion with VA's Advisory Committee on Homeless Veterans and the Advisory Committee on Women Veterans. On November 4, the agenda will include briefings and updates on the Office of Public and Intergovernmental Affairs, Office of Diversity and Inclusion, and the Committee will be meeting with the Chief of Staff. On November 5, the agenda will include briefings and updates from Congressional Staff members. In the afternoon, the Committee will work on their after action report.

Any member of the public wishing to attend should contact Juanita J. Mullen or Ron Sagudan, Department of Veterans Affairs, Center for Minority Veterans (00M), 810 Vermont Avenue, NW., Washington, DC 20420. They may be contacted either by phone at (202) 461-6191, fax at (202) 273-7092, or e-mail at Juanita.mullen@va.gov or Ronald.sagudan@va.gov. Interested persons may attend, appear before, or file statements with the Committee. Written statements must be filed before the meeting, or within 10 days after the meeting.

Dated: October 15, 2009.
By Direction of the Secretary.
Vivian Drake,
Acting Committee Management Officer.

[FR Doc. E9-25369 Filed 10-20-09; 8:45 am]

BILLING CODE P